DEPARTMENT OF AGRICULTURE

Food Safety and Inspection Service

[Docket No. FSIS-2007-0050]

Codex Alimentarius Commission: Meeting on the Ad Hoc Codex Intergovernmental Task Force on the Processing and Handling of Quick Frozen Foods

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on February 5, 2008. The objective of the public meeting is to provide information and receive public comments on agenda items and draft United States positions that will be discussed at the First Session of Ad Hoc Codex Intergovernmental Task Force on the Processing and Handling of Quick Frozen Foods (TFQFF) of the Codex Alimentarius Commission (Codex), which will be held in Bangkok, Thailand on February 25-29, 2008.

The Under Secretary for Food Safety and FDA recognize the importance of providing interested parties the opportunity to obtain background information on the First Session of TFQFF and to address items that will be on the agenda.

DATES: The public meeting is scheduled for Tuesday, February 5, 2008 from 1 p.m. to 3 p.m.

ADDRESSES: The public meeting will be held in Room 1B-042, Food and Drug Administration, Center for Food Safety and Applied Nutrition, Harvey Wiley Federal Building, 5100 Paint Branch Parkway, College Park, MD 20740. The following call-in number will be provided for the meeting: 1-866-859-5767, passcode 3258684. Codex documents related to the First Session of the TFQFF will be accessible via the World Wide Web at the following address: http://www.codexalimentarius.net/current.asp.

The U.S. Delegate to the First Session of TFQFF, Dr. Donald Zink, FDA, invites interested U.S. parties to submit their comments electronically to the following e-mail address: donald.zink@fda.hhs.gov.

Registration: You may register electronically to the same e-mail address above. Early registration is encouraged because it will expedite entry into the building and its parking area. If you require parking, please include the vehicle make and tag number, if known, when you register. Because the meeting will be held in a Federal building, you should also bring photo identification (ID) and plan for adequate time to pass through security screening systems.

FOR FURTHER INFORMATION ABOUT THE FIRST SESSION OF THE TFQFF CONTACT: Donald Zink, U.S. Delegate to the TFQFF, Office of Food Safety, Center for Food Safety and Applied Nutrition, FDA, 5100 Paint Branch Parkway (HFS-317), College Park, MD 20740, Phone: (301)436-1692, Fax: (301) 436-1692, E-mail: donald.zink@fda.hhs.gov.

FOR FURTHER INFORMATION ABOUT THE PUBLIC MEETING CONTACT: Syed Ali, Staff Officer, U.S. Codex Office, Food Safety and Inspection Service (FSIS), Room 4861, South Building, 1400 Independence Avenue SW., Washington, DC 20250, Phone: (202) 720-0574, Fax: (202) 720-3157, E-mail: syed.ali@fsis.usda.gov.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

Issues To Be Discussed at the Public Meeting

The items to be discussed during the public meeting will include the Proposed Draft Recommended for the International Code of Practice for the Processing and Handling of Quick Frozen Foods, with attention to outstanding quality and safety provisions, such as the Defect Action Point Analysis concept and the retention of an annex with specific information on temperature monitoring and control in the food chain. These issues will be fully described in documents distributed, or to be distributed, by the Thai Secretariat prior to the meeting. Members of the public may access copies of these documents at http://www.codexalimentarius.net/current.asp.

Public Meeting

At the February 5, 2008, public meeting, draft U.S. positions on the agenda items will be described and discussed, and attendees will have the opportunity to pose questions and offer comments. Written comments may be offered at the meeting or sent to the U.S. Delegate for the First Session of TFQFF, Dr. Donald Zink, at Donald.Zink@fda.hhs.gov. Written comments should state that they relate to activities of the First Session of the TFQFF.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on January 9, 2008.
Paulo Almeida,
Acting U.S. Manager for Codex Alimentarius.

[FR Doc. E8-533 Filed 1-14-08; 8:45 am]

BILLING CODE 3410-DM-P